DEPARTMENT OF COMMERCE

National Oceanic and Atmospheric Administration

[RTID 0648-XA728]

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Advisory Subpanel (HMSAS) and HMS Management Team (HMSMT) will conduct online meetings, which are open to the public.

DATES: The HMSMT will hold an online meeting on Friday, January 15, 2021, from 9 a.m. to 12 p.m., Pacific Time. The HMSMT and HMSAS will meet jointly from 1:30 p.m. to 4:30 p.m., or until business is completed, on the same day.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The National Marine Fisheries Service (NMFS) is seeking clarifications on the Pacific Council's September 2019 proposal to authorize deep-set buoy gear and specifically criteria the Pacific Council identified for individuals to receive a permit under the proposed limited entry permit program to use the gear in the Southern California Bight. The HMSMT will first meet to discuss options for Pacific Council consideration in drafting its clarifications for NMFS. The HMSMT will then discuss these options to the HMSAS. Based on that discussion, the HMSMT will report to the Pacific Council at its March 2021 meeting on its recommendations. The HMSAS may also comment to the Pacific Council on the HMSMT recommendations at that time. The HMSMT and HMSAS may also discuss other relevant items scheduled on the Pacific Council's March 2021 meeting agenda, time permitting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: December 17, 2020.
Rey Israel Marquez,
Acting Deputy Director, Office of Sustainable Fisheries, National Marine Fisheries Service.

[FR Doc. 2020-28295 Filed 12-22-20; 8:45 am]

BILLING CODE 3510-22-P